DEPARTMENT OF ENERGY

Federal Energy Regulatory Commission

Combined Notice of Filings

Take notice that the Commission has received the following Natural Gas Pipeline Rate and Refund Report filings:

Filings Instituting Proceedings

Docket Numbers: PR14-3-000.

Applicants: Regency Intrastate Gas LP.

Description: Tariff filing per 284.123/.224: Operating Statement of Regency Intrastate Gas LP Effective October 17, 2013 to be effective 10/17/2013.

Filed Date: 10/17/13.

Accession Number: 20131017-5116.

Comments Due: 5 p.m. ET 11/7/13.

Docket Numbers: PR14-4-000.

Applicants: NorthWestern Corporation.

Description: Tariff filing per 284.123(b)(1)/.: Revised Rate Schedules for Transportation and Storage Service—adjusted GTAC to be effective 9/20/2013.

Filed Date: 10/18/13.

Accession Number: 20131018-5047.

Comments Due: 5 p.m. ET 11/8/13.

Docket Numbers: RP14-65-000.

Applicants: Transcontinental Gas Pipe Line Company.

Description: GT&C Section 53 Negotiated Rates and Capacity Release to be effective 11/22/2013.

Filed Date: 10/22/13.

Accession Number: 20131022-5055.

Comments Due: 5 p.m. ET 11/4/13.

Docket Numbers: RP14-66-000.

Applicants: Natural Gas Pipeline Company of America.

Description: Negotiated Rate—J. Aron to be effective 11/1/2013.

Filed Date: 10/23/13.

Accession Number: 20131023-5059.

Comments Due: 5 p.m. ET 11/4/13.

Docket Numbers: RP14-67-000.

Applicants: Texas Eastern Transmission, LP.

Description: PCB TETLP DEC 2013 FILING to be effective 12/1/2013.

Filed Date: 10/23/13.

Accession Number: 20131023-5085.

Comments Due: 5 p.m. ET 11/4/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2013.
Nathaniel J. Davis, Sr.,
Deputy Secretary.

[FR Doc. 2013-26098 Filed 10-31-13; 8:45 am]

BILLING CODE 6717-01-P